DEPARTMENT OF VETERANS AFFAIRS

[OMB Control No. 2900-0778]

Agency Information Collection Activity: Disability Benefits Questionnaire (Group 3)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed reinstatement of a currently approved collection, and allow 60 days for public comment in response to the notice.

DATES: Written comments and recommendations on the proposed collection of information should be received on or before February 3, 2020.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0778” in any correspondence. During the comment period, comments may be viewed online through FDMS.

FOR FURTHER INFORMATION CONTACT: Danny Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Disability Benefits Questionnaires (Group 3).

OMB Control Number: 2900-0778.

Type of Review: Reinstatement of a currently approved collection.

Abstract: VA Form 21-0960 series called Disability Benefits Questionnaire (Group 3) gathers necessary information from a claimant's treating physician regarding the results of medical examinations. VA will gather medical information related to the claimant that is necessary to adjudicate the claim for VA disability benefits. The Disability Benefit Questionnaires (Group 3) is comprised of 17 forms. Each DBQ title includes the names of the specific disability for which it gathers information. VAF 21-0960C-5, Central Nervous System and Neuromuscular Diseases Disability Benefits Questionnaire, gathers information related to the claimant's diagnosis of a central nervous system disease; VAF 21-0960C-8, Headaches (Including Migraine Headaches) Disability Benefits Questionnaire, gathers information related to the claimant's diagnosis of headaches; VAF 21-0960C-9, Multiple Sclerosis (MS) Disability Benefits Questionnaire, gathers information related to the claimant's diagnosis of multiple sclerosis; VAF 21-0960G-1, Esophageal Disorders (including GERD, Hiatal Hernia, and Other Esophageal Disorders) Disability Benefits Questionnaire, gathers information related to the claimant's diagnosis of any esophageal disorders; VAF 21-0960G-2, Gall Bladder and Pancreas Conditions Disability Benefits Questionnaire, gathers information related to the claimant's diagnosis of any gall bladder and pancreas condition; VAF 21-0960G-3, Intestinal Conditions (Other than Surgical or Infectious) Including Irritable Bowel Syndrome, Crohn's Disease, Ulcerative Colitis, and Diverticulitis Disability Benefits Questionnaire, gathers information related to the claimant's diagnosis of any intestinal conditions unrelated to surgery or infection; VAF 21-0960G-4, Infectious Intestinal Disorders (including Bacterial and Parasitic Infections) Disability Benefits Questionnaire, gathers information related to the claimant's diagnosis of any infectious intestinal condition; VAF 21-0960G-5, Hepatitis, Cirrhosis and other Liver Conditions Disability Benefits Questionnaire, gathers information related to the claimant's diagnosis of any liver condition; VAF 21-0960G-6, Peritoneal Adhesions Disability Benefits Questionnaire, gathers information related to the claimant's diagnosis of peritoneal adhesions; VAF 21-0960G-7, Stomach and Duodenum Conditions (Not Including GERD or Esophageal Disorders) Disability Benefits Questionnaire, gathers information related to the claimant's diagnosis of any stomach or duodenum conditions; VAF 21-0960G-8, Intestinal Surgery (Bowel Resection, Colostomy, Ileostomy) Disability Benefits Questionnaire, gathers information related to the claimant's diagnosis of any surgical intestinal condition; VAF 21-0960H-2, Rectum and Anus Conditions (Including Hemorrhoids) Disability Benefits Questionnaire, gathers information related to the claimant's diagnosis of any rectum or anus condition, which includes hemorrhoids; VAF 21-0960K-1, Breast Conditions and Disorders Disability Benefits Questionnaire, gathers information related to the claimant's diagnosis of a breast condition or disorder; VAF 21-0960K-2, Gynecological Conditions Disability Benefits Questionnaire, gathers information related to the claimant's diagnosis of a gynecological condition; VAF 21-0960L-2, Sleep Apnea Disability Benefits Questionnaire, gathers information related to the claimant's diagnosis of sleep apnea; VAF 21-0960M-11, Osteomyelitis Disability Benefits Questionnaire, gathers information related to the claimant's diagnosis of osteomyelitis; and VAF 21-0960N-1, Ear Conditions (Including Vestibular and Infectious) Disability Benefits Questionnaire, gathers information related to the claimant's diagnosis of an ear disease.

Affected Public: Individuals and households.

Estimated Annual Burden: 77,500 hours.

Estimated Average Burden per Respondent: 19.4 minutes.

Frequency of Response: On occasion.

Estimated Number of Respondents: 250,000.

By direction of the Secretary.
Danny S. Green,
Department Clearance Officer, Office of Quality, Privacy and Risk (OQPR), Department of Veterans Affairs.

[FR Doc. 2019-26233 Filed 12-4-19; 8:45 am]

BILLING CODE 8320-01-P